DEPARTMENT OF COMMERCE

National Oceanic and Atmospheric Administration

RIN 0648-XE852

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a one and a half day meeting of its Standing, Reef Fish, Shrimp, Coastal Migratory Pelagics Scientific and Statistical Committees (SSC).

DATES: The meeting will begin at 1 p.m. on Tuesday, September 20, 2016, and end at 5 p.m. on Wednesday, September 21, 2016.

ADDRESSES: The meeting will be held at the Gulf Council's Conference Room, and via Webinar. You may attend the meeting via Webinar by registering at: https://attendee.gotowebinar.com/register/816513104821884417.

Council address: Gulf of Mexico Fishery Management Council, 2203 N. Lois Avenue, Suite 1100, Tampa, FL 33607; telephone: (813) 348-1630.

FOR FURTHER INFORMATION CONTACT: Steven Atran, Senior Fishery Biologist, Gulf of Mexico Fishery Management Council; steven.atran@gulfcouncil.org, telephone: (813) 348-1630.

SUPPLEMENTARY INFORMATION:

Agenda

Tuesday, September 20, 2016

I. Introductions and Adoption of Agenda

II. Election of Chair and Vice-chair

III. Approval of minutes

a. January 6-8, 2015 Standing, Reef Fish, and Mackerel SSC meeting

b. June 1, 2016 Standing, Shrimp, and Socioeconomic SSC meeting

c. Standing Reef Fish socioeconomic Shrimp and Spiny Lobster SSC meeting June 2016-verbatim minutes

d. August 2, 2016 Standing and Reef Fish SSC Webinar

IV. Selection of SSC representative at October 17-20, 2016 Council meeting

Standing and Mackerel SSC Session

V. Updated OFL and ABC yield streams for Gulf migratory group king mackerel for 2017/2018 to 2019/2020 fishing seasons

Standing and Reef Fish SSC Session #1

VI. Goliath Grouper benchmark assessment

VII. Evaluation of candidate species for future data-poor assessments

Wednesday, September 21, 2016

Standing and Shrimp SSC Session

VIII. Risk assessment for threshold permit numbers relative to sea turtle incidental take constraints

Standing and Reef Fish SSC Session #2

a. Decision tools for gray triggerfish

b. Commercial seasons and trip limits

c. Recreational seasons, size limits, bag limits, and effort shifting

IX. Evaluation of recreational red snapper split seasons

X. Review of updated SEDAR schedule

XI. Discussion on limit and target reference points and MSY proxies for reef fish

a. Discussion of limit and target reference points

b. Discussion of components of risk and uncertainty associated with the choice and estimation of reference points

c. Discussion of the components of risk and uncertainty associated with choosing MSY proxies

i. General discussion

ii. Discussion specific to red snapper

d. Ad Hoc Working Group on MSY proxies

i. Charge to the working group

ii. Recommendations for working group participants

XII. Review of ABC Control Rule Alternatives

a. Current ABC control rule

b. Modified from the method described in Martel and Froese (2012)

c. Fixed proportion of FMSY or MSY

d. Bucket method for setting P*

XIII. Dates for next SSC meeting

XIV. Other Business

—Meeting Adjourns—

You may register for SSC Meeting: Standing, Reef Fish, Mackerel, and Shrimp on September 20 and 21, 2016 at: https://attendee.gotowebinar.com/register/816513104821884417.

The Agenda is subject to change, and the latest version along with other meeting materials will be posted on the Council's file server. To access the file server, the URL is https://public.gulfcouncil.org:5001/webman/index.cgi, or go to the Council's Web site and click on the FTP link in the lower left of the Council Web site (http://www.gulfcouncil.org). The username and password are both “gulfguest”. Click on the “Library Folder,” then scroll down to “SSC meeting-2016-09.”

The meeting will be Webcast over the internet. A link to the Webcast will be available on the Council's Web site, at http://www.gulfcouncil.org.

Although other non-emergency issues not on the agenda may come before the Scientific and Statistical Committee for discussion, in accordance with the Magnuson-Stevens Fishery Conservation and Management Act, those issues may not be the subject of formal action during this meeting. Actions of the Scientific and Statistical Committee will be restricted to those issues specifically identified in the agenda and any issues arising after publication of this notice that require emergency action under section 305(c) of the Magnuson-Stevens Fishery Conservation and Management Act, provided the public has been notified of the Council's intent to take action to address the emergency.

Special Accommodations

This meeting is physically accessible to people with disabilities. Requests for sign language interpretation or other auxiliary aids should be directed to Kathy Pereira, at the Gulf Council Office (see ADDRESSES), at least 5 working days prior to the meeting.

Authority: 16 U.S.C. 1801 et seq.

Dated: August 30, 2016.
Tracey L. Thompson,
Acting Director, Office of Sustainable Fisheries, National Marine Fisheries Service.

[FR Doc. 2016-21183 Filed 9-1-16; 8:45 am]

BILLING CODE 3510-22-P